DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: National Center of Excellence for Infant and Early Childhood Mental Health Consultation—NEW

The Substance Abuse and Mental Health Services Administration's (SAMHSA), Center for Mental Health Services, in partnership with the Health Resources and Services Administration (HRSA) and the Administration for Children and Families (ACF), announces the establishment of the National Center of Excellence (CoE) for Infant and Early Childhood Mental Health Consultation (IECMHC), a new program to advance the implementation of high-quality infant and early childhood mental health consultation across the nation through the development of tools, resources, training, technical assistance, and collaborative public and private partnerships. Its primary goals will be to promote the healthy social and emotional development of infants and young children and to prevent mental, emotional and behavioral disorders within this age group. Major activities for the CoE include convening a national expert workgroup and to lead the workgroup in developing a state-of-the-art Toolkit of the latest research and best practices for IECMHC (e.g., training, implementation, evaluation and financing) for early childhood settings, including early care and education and home visiting programs. The CoE will also create a dissemination and training plan for the Toolkit, and provide intensive training and technical assistance to states and tribes to help them build their capacity to implement, fund and evaluate IECMHC efforts successfully.

To monitor the reach, implementation and impact of the CoE's multiple efforts, learn which practices work for which populations, and gauge overall applicability and utility of the Toolkit to infant and early childhood mental health consultation, the CoE intends to employ a variety of standardized process and outcome measures that have been specifically designed to reduce participant burden. Measures will explore the related professional background and experience of IECMHC participants, degree of satisfaction with IECMHC trainings and technical assistance (TTA), usefulness of the TTA, areas for improvement, scope of IECMHC implementation across the State or Tribe, and IECMHC impact on childcare and pre-K expulsion rates.

Data-collection efforts will focus on two types of respondents: (1) Mental health consultants employed at maternal and child health, behavioral health, child care, Head Start, education and child welfare agencies, and (2) State or tribal representatives who have been selected to lead the implementation, expansion and sustainability of IECMHC in their state or tribal community.

The mental health consultants will be asked to provide background information on their prior experience in the IECMHC field, feedback immediately following the trainings, and follow-up feedback approximately two months after receiving training and/or technical assistance. Specific sample questions will include level of satisfaction with the training/technical assistance, perceptions of knowledge acquired, intentions to use training content, extent of implementation of content, and opinions regarding the training's cultural appropriateness for its audience.

State/tribal representatives will be asked to report on the reach and impact of the IECMHC program in the past year, level of satisfaction with IECMHC, suggested improvements for the program, and emerging state/tribal needs that the program could address. IECMHC mentors, whose primary role will be to work with the state/tribal representatives to implement the IECMHC Toolkit, will gather specific information from the representatives, including recommended IECMHC professional standards for mental health consultants, state- or tribal-level evaluations of IECMHC impact, and financing for the continuation of IECMHC. For programs also receiving funding from the Maternal Infant and Early Childhood Home Visiting (MIECHV) program, representatives will be asked to report on selected MIECHV outcome measures relating to maternal and newborn health; school readiness and achievement; and coordination and referrals for other community resources and supports.

SAMHSA will use this data to determine whether funded activities are progressing as expected, provide guidance to improve how work is being conducted, assess the impact of IECMHC on child-serving systems, and inform subsequent national, state, tribal and community policy and planning decisions.

Estimate of Respondent Burden
[Note: Total burden is annualized over the 3-year clearance period]
Instrument | Number of respondents | Average number of responses per respondent per year | Total number of responses | Hours per response | Total annual burden hours
Service Pre-Assessment Form | 150 | 6 | 900 | .167 | 150.30
Training Feedback Form | 112 | 6 | 672 | .167 | 112.22
Training Follow-up Form | 112 | 4 | 448 | .167 | 74.82
Technical Assistance Follow-up Form | 30 | 6 | 180 | .167 | 30.06
IECMHC Cumulative Services Assessment Form | 17 | 1 | 17 | .333 | 5.66
IECMHC Annual and Quarterly Benchmark Data Collection Forms | 17 | 4 | 68 | 1.5 | 102.00
Totals | 438 | 27 | 2,285 |  | 475.06

Written comments and recommendations concerning the proposed information collection should be sent by November 4, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2016-24012 Filed 10-4-16; 8:45 am]

BILLING CODE 4162-20-P